DEPARTMENT OF TRANSPORTATION

Federal Aviation Administration

Flight Standards District Office at Honolulu, HI (HNL FSDO)

AGENCY: Federal Aviation Administration, DOT.

ACTION: Notice.

Notice is hereby given that on or about January 18, 2009, the Flight Standards District Office at Honolulu, Hawaii will be divided into two separate FAA offices. Services to operators operating under Title 14, U.S.C. Part 121 of Hawaii provided by this office will now be provided services by the Honolulu Certificate Management Office (HNLCMO) located in Honolulu, Hawaii. This information will be reflected in the FAA Organizational Statement the next time it is reissued.

Issued in Los Angeles, CA, on February 2, 2009.
John M Allen,
Director, Flight Standards Service.

[FR Doc. E9-4362 Filed 3-3-09; 8:45 am]

BILLING CODE 4910-13-M